OFFICE OF THE UNITED STATES TRADE REPRESENTATIVE

Technical Corrections to the Harmonized Tariff Schedule of the United States

AGENCY: Office of the United States Trade Representative.

ACTION: Notice.

SUMMARY: Pursuant to authority delegated to the United States Trade Representative (“USTR”) in Presidential Proclamation 6969 of January 27, 1997 (62 FR 4415), USTR is making technical corrections to subchapter III of chapter 99 of the Harmonized Tariff Schedule of the United States (“HTS”) as set forth in the annex to this notice. These modifications correct several inadvertent errors and omissions in subheadings 9903.72.30 through 9903.74.24 of the HTS so that the intended tariff treatment is provided.

EFFECTIVE DATE: The corrections made in this notice are effective with respect to articles entered, or withdrawn from warehouse for consumption, on or after the dates set forth in the annex to this notice.

FOR FURTHER INFORMATION CONTACT: Office of Industry, Office of the United States Trade Representative, 600 17th Street, NW., Room 501, Washington, DC 20508. Telephone (202) 395-5656.

SUPPLEMENTARY INFORMATION: On March 5, 2002, pursuant to section 203 of the Trade Act of 1974, as amended (the “Trade Act”) (19 U.S.C. 2253), the President issued Proclamation 7529 (67 FR 10553), which imposed tariffs and a tariff-rate quota on (a) certain flat steel, consisting of: slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day. Effective with respect to goods entered, or withdrawn from warehouse for consumption, on or after 12:01 a.m., e.s.t., on March 20, 2002, Proclamation 7529 modified subchapter III of chapter 99 of the HTS so as to provide for such increased duties and a tariff-rate quota. Proclamation 7529 also delegated to the USTR the authority to consider requests for exclusion of a particular product submitted in accordance with the procedures set out in 66 FR 54321, 54322-54323 (October 26, 2001) and, upon publication in the Federal Register of a notice of his finding that a particular product should be excluded, to modify the HTS provision created by the annex to that proclamation to exclude such particular product from the pertinent safeguard measure. On April 5, 2002, USTR published a notice in the Federal Register excluding particular products from the safeguard measures, and modified the HTS accordingly. 67 FR 16484. On July 3, the President issued Proclamation 7576, which extended the period for granting exclusions until August 31, 2002. On July 12, 2002, and August 30, 2002, USTR published notices in the Federal Register excluding additional products from the safeguard measures, and modified the HTS accordingly. 67 FR 46221 and 67 FR 56182.

On March 19, 2002, June 4, 2002, July 12, 2002, August 30, and November 14 of 2002, USTR published Federal Register notices (67 FR 12635, 67 FR 38541, 67 FR 46221, 67 FR 56182 and 67 FR 69065, respectively) making technical corrections to subchapter III of chapter 99 of the HTS to remedy several technical errors introduced in the annex to Proclamation 7529. These corrections ensured that the intended tariff treatment was provided. Since the publication of these Federal Register notices, additional technical errors and omissions in subchapter III of chapter 99 have come to the attention of USTR. The annex to this notice makes technical corrections to the HTS to remedy these errors and omissions. In particular, the annex to this notice corrects errors in the descriptions of the physical dimensions or chemical composition of certain products excluded from the application of the safeguard measures.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the dates set forth in the Annex to this notice.

Robert B. Zoellick,
United States Trade Representative.

ANNEX

Subchapter III of chapter 99 of the Harmonized Tariff Schedule (HTS) is modified as set forth in this annex, with bracketed matter included to assist in the understanding of the modifications. The following provisions supersede matter now in the HTS, with the new subheadings being inserted by this notice set forth in columnar format and the material inserted in the HTS columns entitled “Heading/Subheading”, “Article Description”, “Rates of Duty 1 General”, “Rates of Duty 1 Special”, and “Rates of Duty 2”, respectively. Subheadings 9903.73.32 and 9903.73.33 shall be effective with respect to goods entered, or withdrawn from warehouse for consumption, on or after 12:01 a.m. e.d.t., July 12, 2002. The remaining provisions of this annex shall be effective with respect to goods entered, or withdrawn from warehouse for consumption, on or after 12:01 a.m. e.s.t., on March 20, 2002, or, in the case of corrections in existing provisions, on or after the date of the inclusion in, or of the previous correction of, the individual HTS provision being corrected.

1. U.S. note 11 to such subchapter III is hereby modified as follows:

(A) In subdivision (c)(xxx)(J), “N” is deleted at each instance and “N/mm²;” is inserted in lieu thereof;

(B) In subdivision (c)(xxxix), the language “during the 12-month period beginning on July 3, 2002, or July 3, 2003, or during the period July 3, 2004, through March 20, 2005, inclusive;” is inserted after “30,000”;

(C) In subdivision (c)(ccvii), “designated as X-083” is inserted after “, inclusive;”;

(D) Subdivision (c)(cliv) is deleted and the following new provisions are inserted in lieu thereof:

“(cliv) Stainless steel products, designated as N-378, meeting the characteristics described below:

(A) Straight bars and rods, or round wire on spools or in coils, all the foregoing specifications:

(I) Chemical composition (percent by weight): carbon not over 0.08, silicon not over 0.70, manganese not over 0.50, chromium 20.50 to 23.50, aluminum 5.0 to 6.0 and balance iron; sometimes referred to as (but not limited to) products known as “Kanthal APM.”;

(II) Chemical composition (percent by weight): carbon not over 0.08, silicon not over 0.70, manganese not over 0.50, chromium 20.50 to 23.50, aluminum 4.30 to 5.30 and balance iron; sometimes referred to as (but not limited to) products known as “Kanthal D”;

(III) Chemical composition (percent by weight): carbon not over 0.08, silicon not over 0.07, manganese not over 0.40, chromium 20.50 to 23.50, aluminum 4.80 to 5.8 and balance iron; sometimes referred to as (but not limited to) products known as “Kanthal AF”; or

(IV) Chemical composition (percent by weight): carbon not greater than 0.08, silicon not greater than 0.70, manganese not greater than 0.40, aluminum 5.30 to 6.30, chromium 20.50 to 23.50 and balance iron; sometimes referred to as (but not limited to) products known as “Kanthal A-1”; or

(V) Chemical composition (percent by weight): carbon not over 0.10, manganese not over 1.00, silicon 1.60 to 2.50, chromium 18.0 to 21.0, nickel 34.0 to 37.0 and balance iron; sometimes referred to as (but not limited to) products known as “Nikrothal 40”;

(B) Round wire on spools or in coils, the specifications:

(I) Chemical composition (percent by weight): carbon not over 0.08, silicon not over 0.70, manganese not over 0.50, chromium 20.50 to 23.50, aluminum 4.60 to 5.60 and balance iron; sometimes referred to as (but not limited to) products known as “Kanthal DT”;

(II) Chemical composition (percent by weight): carbon not over 0.08, silicon not over 0.70, manganese not over 0.50, chromium 20.50 to 23.50, aluminum 4.80 to 5.80 and balance iron; sometimes referred to as (but not limited to) products known as “Kanthal A”; or

(III) Chemical composition (percent by weight): carbon not over 0.08, silicon not over 0.70, manganese not over 0.50, chromium 14.00 to 16.00, aluminum 3.80 to 4.80 and balance iron; sometimes referred to as (but not limited to) products known as “Alkrothal 14”;

(E) In subdivision (c)(xxviii)(A), “397 MPa or more” is deleted and “335 to 420 MPa” is inserted in lieu thereof; “450 MPa or more” is deleted and “385 to 465 MPa” is inserted in lieu thereof;

(F) In subdivision (c)(xxiv)(B), the word “maximum” should be inserted after “manganese 0.40” the word “maximum” should be inserted after “chromium 5.40” and the word “maximum” should be inserted after “molybdenum 1.70”;

(G) In subdivision (c)(xxiv)(C), the word “maximum” should be inserted after “molybdenum 0.65”;

(H) In subdivision (c)(xxiv)(D), the word “maximum” should be inserted after “molybdenum 3.50”;

(I) In subdivision (c)(xxiv)(E), the word “maximum” should be inserted after “molybdenum 0.80”;

(J) In subdivision (c)(xxiv)(F), the word “maximum” should be inserted after “molybdenum 0.40”;

(K) In subdivision (c)(cxxiii), the word “silicon” is deleted and “sulfur” is inserted in lieu thereof;

(L) In subdivision (c)(cxlviii), each instance of “0.25 percent or more but” should be deleted;

(M) In subdivision (c)(lx)(A), the phrase “sulphur 0.15 maximum” is deleted and “sulfur 0.15 minimum” is inserted in lieu thereof and the phrase “tellurium added 0.03 minimum” is deleted and “tellurium added 0.010 to 0.070” is inserted in lieu thereof;

2. The enumerated subheadings in such subchapter III are modified as follows:

(A) In subheading 9903.72.51, “or N-408” should be inserted after “X-134”;

(B) In subheading 9903.72.72, “or N-408” should be inserted after “X-134”;

(C) In subheading 9903.72.74, the language “and entered in an aggregate annual quantity not to exceed 750,000 t” should be inserted after “X-087”

(D) In subheading 9903.73.30, “(A) and (B)” is inserted after “ 11(b)(xliv)”

(E) In subheading 9903.75.22, the language “and entered in an aggregate annual quantity not to exceed 1,550 t” should be inserted after “subchapter”;

(F) In subheading 9903.77.69, the language “and entered in an aggregate annual quantity not to exceed 1,500 t” should be inserted after “subchapter”;

(G) Subheading 9903.77.71 is deleted;

(H) Subheading 9903.73.47 is deleted;

3. The following new subheadings are inserted in numerical sequence:

| [Flat-rolled...:] |  |  |
| [Goods...:] |  |  |
“9903.73.32 | Enumerated in U.S. note 11(b)(xliv)(C) to this subchapter and entered in an aggregate annual quantity not to exceed 36,000 t | No change | No change | No change.
9903.73.33 | Enumerated in U.S. note 11(b)(xliv)(D) to this subchapter and entered in an aggregate annual quantity not to exceed 40,000 t | No change | No change | Nochange.
| [Goods...:] |  |  |
9903.74.59 | Enumerated in U.S. note 11(c)(cxviii) to this subchapter | No change | No change | No change.
9903.74.60 | Enumerated in U.S. note 11(c)(cxix) to this subchapter | No change | No change | No change.
9903.76.23 | Enumerated in U.S. note 11(c)(cxl) to this subchapter | No change | No change | No change”.
Conforming changes
Subheading 9903.72.57 is modified by deleting “9903.74.58” and by inserting in lieu thereof “9903.74.60”.
Subheading 9903.73.18 is modified by deleting “9903.76.22” and by inserting in lieu thereof “9903.76.23”.

[FR Doc. 03-3395 Filed 2-10-03; 8:45 am]

BILLING CODE 3190-01-P